DEPARTMENT OF THE TREASURY

Office of Foreign Assets Control

Publication of the List of Services, Software, and Hardware Incident to Communications

AGENCY: Office of Foreign Assets Control, Treasury.

ACTION: Publication of a list of items determined to be incident to communications in the Iranian Transactions and Sanctions Regulations.

SUMMARY: The Department of the Treasury's Office of Foreign Assets Control (OFAC) is publishing a list of items that have been determined to be incident to communications and therefore authorized for export or reexport to Iran under a general license issued pursuant to the Iranian Transactions and Sanctions Regulations (ITSR). The list previously existed as an annex to ITSR General License D and its subsequent iterations, General License D-1 and General License D-2, all of which were previously made available on OFAC's website. Concurrent with publication of the list, OFAC is publishing an updated version of the list that, effective 30 days after publication, will restrict the computing power of certain items on the list.

DATES: This list is effective May 17, 2024.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

The text of the List of Services, Software, and Hardware Incident to Communications is available on the Iran Sanctions page on OFAC's website, and additional information concerning OFAC is available on OFAC's website (www.treasury.gov/ofac).

Background

On May 30, 2013, OFAC, in consultation with the Departments of State and Commerce, issued General License (GL) D under the Regulations. GL D was made available on OFAC's website and in the Federal Register (78 FR 43278, July 19, 2013). GL D authorized the exportation or reexportation, directly or indirectly, from the United States or by U.S. persons, wherever located, to persons in Iran of additional services, software, and hardware incident to personal communications, including fee-based versions of the software and services authorized in § 560.540. GL D also contained an Annex that listed items authorized for export or reexport that had been determined to be incident to personal communications.

On February 7, 2014, OFAC issued GL D-1, which replaced and superseded GL D in its entirety. GL D-1 was made available on OFAC's website and in the Federal Register (79 FR 13736, March 11, 2014). GL D-1 clarified certain aspects of GL D and added certain new authorizations relating to the provision to Iran and importation from Iran of certain hardware, software, and services incident to personal communications. GL D-1 made minor amendments to the Annex from GL D. On September 23, 2022, OFAC issued GL D-2, which replaced and superseded GL D-1 in its entirety. GL D-2 was made available on OFAC's website and in the Federal Register (87 FR 62003, October 13, 2022), and updated and clarified GL D-1 by, among other things: removing the “personal” qualifier from the authorization for software and services incident to “personal communication” and providing additional examples of certain modern types of software and services that are incident to the exchange of communications.

OFAC is now publishing the list of items previously included in the annexes to GL D, GL D-1, and GL D-2 as the 31 CFR 560.540 List of Services, Software, and Hardware Incident to Communications (the “List”). The text of the List is provided below. Concurrently, OFAC is publishing an updated version of the List that will restrict the computing power of laptops, tablets, and personal computing devices authorized for exportation or reexportation to Iran under category (5) of the List, effective 30 days after publication in the Federal Register.

31 CFR 560.540 List of Services, Software, and Hardware Incident to Communications

Note: See paragraphs (a)(3)(ii)-(iii) of § 560.540 for authorizations related to certain hardware and software that is of a type described below but that is not subject to the Export Administration Regulations, 15 CFR parts 730 through 774 (EAR).

1. Mobile phones (including smartphones), Personal Digital Assistants (PDAs), Subscriber Identity Module/Subscriber Information Module (SIM) cards, and accessories for such devices designated EAR99 or classified on the CCL under ECCN 5A992.c; drivers and connectivity software for such hardware designated EAR99 or classified under ECCN 5D992.c; and services necessary for the operation of such hardware and software.

2. Satellite phones and Broadband Global Area Network (BGAN) hardware designated EAR99 or classified under ECCN 5A992.c; demand drivers and connectivity software for such hardware designated EAR99 or classified under ECCN 5D992.c; and services necessary for the operation of such hardware and software.

3. Consumer * modems, network interface cards, radio equipment (including antennae), routers, switches, and WiFi access points, designed for 50 or fewer concurrent users, designated EAR99 or classified under ECCNs 5A992.c, 5A991.b.2, or 5A991.b.4; drivers, communications, and connectivity software for such hardware designated EAR99 or classified under ECCN 5D992.c; and services necessary for the operation of such hardware and software.

* For purposes of the 31 CFR 560.540 List of Services, Software, and Hardware Incident to Communications, the term “consumer” refers to items that are: (1) generally available to the public by being sold, without restriction, from stock at retail selling points by means of any of the following: (a) over-the-counter transactions; (b) mail order transactions; (c) electronic transactions; or (d) telephone call transactions; and (2) designed for installation by the user without further substantial support by the supplier.

4. Residential consumer* satellite terminals, transceiver equipment (including to antennae, receivers, set-top boxes and video decoders) designated EAR99 or classified under ECCNs 5A992.c, 5A991.b.2, or 5A991.b.4; drivers, communications, and connectivity software for such hardware designated EAR99 or classified under ECCN 5D992.c; and services necessary for the operation of such hardware and software.

5. Laptops, tablets, and personal computing devices, and peripherals for such devices (including consumer* disk drives and other data storage devices) and accessories for such devices (including keyboards and mice) designated EAR99 or classified on the CCL under ECCNs 5A992.c, 5A991.b.2, 5A991.b.4, or 4A994.b; computer operating systems and software required for effective consumer use of such hardware designated EAR99 or classified under ECCN 5D992.c; and services necessary for the operation of such hardware and software.

6. Anti-virus and anti-malware software designated EAR99 or classified under ECCN 5D992.c; and services necessary for the operation of such software.

7. Anti-tracking software designated EAR99 or classified under ECCN 5D992.c; and services necessary for the operation of such software.

8. Mobile operating systems, online application for mobile operating systems (app) stores, and related software, including apps designed to run on mobile operating systems, designated EAR99 or classified under ECCN 5D992.c; and services necessary for the operation of such software.

9. Anti-censorship tools and related software designated EAR99 or classified under ECCN 5D992.c; and services necessary for the operation of such software.

10. Virtual Private Network (VPN) client software, proxy tools, and fee-based client personal communications tools including voice, text, video, voice-over-IP telephony, video chat, and successor technologies, and communications and connectivity software required for effective consumer use designated EAR99 or classified under ECCN 5D992.c; and services necessary for the operation of such software.

11. Provisioning and verification software for Secure Sockets Layers (SSL) certificates designated EAR99 or classified under ECCN 5D992.c; and services necessary for the operation of such software.

Bradley T. Smith,
Director, Office of Foreign Assets Control.

[FR Doc. 2024-10722 Filed 5-16-24; 8:45 am]

BILLING CODE 4810-AL-P